DEPARTMENT OF EDUCATION

Elementary and Secondary Education Act; Unsafe School Choice Option; Final Deadlines for Implementation

AGENCY: Office of Safe and Drug-Free Schools, Department of Education.

ACTION: Notice of final deadlines for implementation.

SUMMARY: The Deputy Under Secretary for Safe and Drug-Free Schools establishes deadline dates for implementation of the Unsafe School Choice Option (USCO) requirements, under section 9532 of the Elementary and Secondary Education Act (ESEA) of 1965, as amended by the No Child Left Behind Act of 2001. This notice establishes deadlines by which each State must identify persistently dangerous schools, as well as offer students attending a persistently dangerous school and students who are victims of a violent criminal offense while on school property the opportunity to transfer to a safe school.

The notice of final deadlines for implementation is effective June 16, 2003.

FOR FURTHER INFORMATION CONTACT: Kristen Hayes, U.S. Department of Education, 400 Maryland Ave., SW., Room 3E340, Washington, DC 20202-6123. Telephone: (202) 708-9431. Or via Internet: Kristen.Hayes@ed.gov.

If you use a telecommunications device for the deaf (TDD), you may call the Federal Information Relay Service (FIRS) at 1-800-877-8339.

Individuals with disabilities may obtain this document in an alternative format (e.g., Braille, large print, audiotape, or computer diskette) on request to the contact person under FOR FURTHER INFORMATION CONTACT.

SUPPLEMENTARY INFORMATION: These final deadlines implement the Unsafe School Choice Option (USCO), section 9532 of the Elementary and Secondary Education Act as amended by the No Child Left Behind Act of 2001 (Pub. L. 107-110), enacted January 8, 2002.

On April 7, 2003, the Deputy Under Secretary published a notice of proposed deadlines for final implementation (notice of proposed deadlines) for this provision in the Federal Register (68 FR 16789).

In the notice of proposed deadlines, the Deputy Under Secretary proposed two deadlines for timely implementation of the USCO provision. The notice of proposed deadlines proposed (1) requiring each State to identify those schools that meet its definition of a persistently dangerous school by July 1, 2003, and each July 1st thereafter; and (2) requiring each State to allow students attending a persistently dangerous public elementary or secondary school and students who are victims of a violent criminal offense the opportunity to transfer to a safe school by the start of the 2003-2004 school year and each start of the school year thereafter.

This notice of final deadlines for implementation contains significant changes that are fully explained in the Analysis of Comments and Changes elsewhere in this notice.

Analysis of Comments and Changes

In response to the Deputy Under Secretary's invitation to comment in the notice of proposed deadlines, 13 parties submitted comments. Six of the commenters addressed the issue of the deadlines proposed in the notice of proposed deadlines. Following is an analysis of the comments and changes the Department has made in the deadlines since publication of the notice of proposed deadlines.

We group major issues according to subject. Generally, we do not address technical and other minor changes. We also do not address suggested changes that the law does not authorize the Secretary to make.

Deadline for Identifying Persistently Dangerous Schools

Comments: Six commenters requested the July 1, 2003 and each July 1st thereafter deadline for labeling schools persistently dangerous be reconsidered. Four commenters proposed deadlines between July 15 and August 15; one commenter proposed a flexible timeframe of July 1-September 30, and the other commenter felt that the July 1 deadline was too soon, but did not propose a specific date.

Some of these commenters objected to the July 1st deadline because they believed it would not provide States with a sufficient amount of time to collect and analyze the most recent school year's data by July 1st. Others contended that the deadline might force a State to omit its most recent school year's data in identifying persistently dangerous schools, and therefore not recognize improvements in the school's environment that were made in the most recent school year.

Discussion: We agree that the July 1 implementation date could have had a negative impact on the States' ability to utilize the most recent school year's data in identifying persistently dangerous schools. It could also have been difficult for some States to complete analysis of the data by July 1.

Changes: In response to these comments, the Deputy Under Secretary establishes a final deadline requiring each State to identify schools that meet its definition of a persistently dangerous school in sufficient time to permit local educational agencies (LEAs) to offer students in schools identified as persistently dangerous the option to transfer to a safe school at least 14 calendar days before the start of the 2003-2004 school year, and each school year thereafter.

Deadline for Offering Students Opportunity To Transfer

Comments: We received three comments pertaining to the proposed start of school year deadline for transferring students who attend a persistently dangerous school or students who are victims of a violent criminal offense to transfer to a safe school. Two commenters stated that this deadline was feasible. One commenter proposed the effective date of student transfers be changed to October 1st of each year, at the earliest, to allow schools and parents sufficient time to prepare and respond to the requirements of the USCO provision.

Discussion: We believe a deadline for offering the transfer option to students attending a persistently dangerous school must appropriately balance the concerns of the States and local educational agencies with the needs of the individual students attending a persistently dangerous school or who are the victims of a violent criminal offense at school. Notification of the option to transfer to a safe school at the start of the school year would result in students not being able to transfer to a safe school until after the school year has begun. We believe that the benefits of having students transfer in advance of the school year include greater continuity and an easier transition for the students.

Changes: The Deputy Under Secretary establishes a deadline requiring each LEA to offer students who attend persistently dangerous schools the opportunity to transfer to a safe school at least 14 calendar days before the start of the 2003-2004 school year. This deadline will also apply in each school year thereafter. The Deputy Under Secretary also establishes a deadline requiring each local educational agency to offer students who are victims of violent criminal offenses while at school or on school grounds the opportunity to transfer to a safe school beginning at the start of the 2003-2004 school year. This deadline will also apply in each school year thereafter.

Final Deadlines

The Deputy Under Secretary establishes a final deadline requiring each State to identify schools that meet its definition of a persistently dangerous school in sufficient time to permit LEAs to offer students in schools identified as persistently dangerous the option to transfer to a safe school at least 14 calendar days before the start of the 2003-2004 school year. This deadline will also apply in each school year thereafter.

The Deputy Under Secretary establishes a final deadline requiring each LEA to offer students who attend persistently dangerous schools the opportunity to transfer to a safe school at least 14 calendar days before the start of the 2003-2004 school year. This deadline will also apply in each school year thereafter. The Deputy Under Secretary also establishes a deadline requiring each LEA to offer students who are victims of violent criminal offenses while at school or on school grounds the opportunity to transfer to a safe school beginning at the start of the 2003-2004 school year. This deadline will also apply in each school year thereafter.

We recognize that the start of the school year will vary from LEA to LEA. The opportunity to transfer provided by USCO must be offered to affected students at least 14 calendar days before the start of the school year in their LEA. Changes to this policy, consistent with statutory requirements and these deadlines, may be made as needed by the State.

Waiver of Delayed Effective Date

Under the Administrative Procedures Act (5 U.S.C. 553), the Secretary generally establishes an effective date for regulations 30 days after the final notice appears in the Federal Register. Due to the changes postponing the implementation dates in this notice of final implementation, and the seriousness of attending a persistently dangerous school or being a victim of a violent criminal offense, the Secretary waives the delayed effective date for good cause under 5 U.S.C. 533(d)(3).

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number does not apply.)

Program Authority: 20 U.S.C. 7912.

Dated: June 11, 2003.
Eric Andell,
Deputy Under Secretary for Safe and Drug-Free Schools.

[FR Doc. 03-15156 Filed 6-13-03; 8:45 am]

BILLING CODE 4000-01-P